FEDERAL MINE SAFETY AND HEALTH REVIEW COMMISSION

Sunshine Act Meeting

June 10, 2002.

Time and Date: 10:00 a.m., Wednesday, June 19, 2002.

Place: Room 6005, 6th Floor, 1730 K Street, NW, Washington, DC.

Status: Closed [Pursuant to 5 U.S.C. 552b(c)(10)].

Matters To Be Considered: It was determined by a majority vote of the Commission that the Commission consider and act upon the following in closed session:

1. Douglas R. Rushford Trucking, Docket No. YORK 99-39-M (Issues include whether the judge erred by failing to follow the Commission's remand instructions in assessing a penalty).

Any person attending the open portion of the meeting who requires special accessibility features and/or auxiliary aids, such as sign language interpreters, must inform the Commission in advance of those needs. Subject to 29 CFR 2706.150(a)(3) and § 2706.160(d).

Contact Person for More Information: Jean Ellen, (202) 653-5629/(202) 708-9300 for TDD Relay/1-800-877-8339 for toll free.

Jean H. Ellen,
Chief Docket Clerk.

[FR Doc. 02-15522 Filed 6-14-02; 8:45 am]

BILLING CODE 6735-01-M